DEPARTMENT OF JUSTICE

Antitrust Division

Notice Pursuant to the National Cooperative Research and Production Act of 1993—Consortium for Execution of Rendezvous and Servicing Operations

Notice is hereby given that, on September 10, 2018, pursuant to Section 6(a) of the National Cooperative Research and Production Act of 1993, 15 U.S.C. 4301 et seq. (“the Act”), Consortium for Execution of Rendezvous and Servicing Operations (“CONFERS”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Altius Space Machines, Inc., Broomfield, CO; Analytical Graphics, Inc., Exton, PA; Astroscale PTE. LTD., Tokyo, JAPAN; Ball Aerospace and Technology Corp., Boulder, CO; Chandah Space Technologies, Houston, TX; Hoffer Flow Controls, Inc. Elizabeth City, NC; iBOSS gmbH, Aachen, GERMANY; MacDonald, Dettwiler and Associates, Inc., Brampton, Ontario, CANADA; Thales Alenia Space, Courbevioe, FRANCE; The Aerospace Corporation, El Segundo, CA; and XL Catlin, LLC, New York, NY.

The general area of CONFERS' planned activity is to establish an independent, self-sustaining industry forum to advocate and promote on-orbit satellite maintenance, servicing, and rendezvous operations by collaborating to research, develop, and publish voluntary, consensus technical and safety standards, and engaging with governments on policy and oversight of satellite servicing activities. To fulfill its mission, CONFERS will recruit a broad array of members from satellite operators, service providers, insurers and underwriters, and engage other stakeholders from industry, academia, and governments. The process will be fully collaborative and will include dedicated outreach activities to engage the global commercial satellite community. The members of the CONFERS believe that future standards should be based on a set of guiding principles that will help establish responsible norms of behavior.

Suzanne Morris,
Chief, Premerger and Division Statistics Unit, Antitrust Division.

[FR Doc. 2018-22826 Filed 10-18-18; 8:45 am]

BILLING CODE 4410-11-P